DEPARTMENT OF EDUCATION

[CFDA No. 84.356A]

Alaska Native Education Program

AGENCY: Department of Education.

ACTION: Notice inviting applications for new awards for fiscal year (FY) 2002.

Purpose of Program: To meet the unique educational needs of Alaska Natives and to support the development of supplemental educational programs to benefit Alaska Natives.

Permissible Activities: Activities may include the following: (1) The development and implementation of plans, methods, and strategies to improve the education of Alaska Natives; (2) the development of curricula and educational programs that address the educational needs of Alaska Native students; (3) professional development activities for prospective or current educators of Alaska Native students; (4) the development and operation of home instruction programs for Alaska Native preschool children, to ensure the active involvement of parents in their children's education from the earliest ages; (5) family literacy services; (6) the development and operation of student enrichment programs in science and mathematics; (7) research and data collection activities to determine the educational status and needs of Alaska Native children and adults; (8) other research and evaluation activities related to the purposes of this program; (9) remedial and enrichment programs to assist Alaska Native students in performing at a high level on standardized tests; (10) education and training of Alaska Native students enrolled in a degree program that will lead to certification or licensing as teachers; (11) parenting education for parents and caregivers of Alaska Native children to improve parenting and caregiving skills (including skills relating to discipline and cognitive development), including parenting education provided through in-home visitation of new mothers; (12) activities carried out through Even Start programs carried out under subpart 3 of part B of title I of the Elementary and Secondary Education Act of 1965, as amended, and Head Start programs carried out under the Head Start Act, including the training of teachers; (13) other early learning and preschool programs; (14) dropout prevention programs such as the Cook Inlet Tribal Council's Partners for Success program; (15) career preparation activities to enable Alaska Native children and adults to prepare for meaningful employment, including programs providing tech-prep, mentoring, training, and apprenticeship activities; (16) provision of operational support and purchasing of equipment to develop regional vocational schools in rural areas of Alaska, including boarding schools for Alaska Native students in grades 9 through 12, or at higher levels of education, to provide the students with necessary resources to prepare for skilled employment opportunities; and (17) other activities, consistent with the purposes of the Alaska Native Education Programs, to meet the educational needs of Alaska Native children and adults.

Eligible Applicants: Alaska Native organizations, educational entities with experience in developing or operating Alaska Native programs or programs of instruction conducted in Alaska Native languages, cultural and community-based organizations with experience in developing or operating programs to benefit Alaska Natives, and consortia of organizations and entities described in this paragraph to carry out programs that meet the purposes of the program. A State educational agency or local educational agency may apply for an award under this program only as part of a consortium involving an Alaska Native organization. The consortium may include other eligible applicants.

Applications Available: April 1, 2002.

Deadline for Transmittal of Applications: May 16, 2002.

Estimated Available Funds: $10.2 million, including not less than $1 million for parenting education programs and not less than $2 million for dropout prevention programs (see PRIORITIES section in this notice).

Estimated Range of Awards: $500,000—$2,000,000.

Estimated Number of Awards: 16.

Note: These estimates are projections for the guidance of potential applicants. The Department is not bound by any estimates in this notice.

Project Period: Up to 36 months.

Applicable Regulations and Statute: The Education Department General Administrative Regulations (EDGAR) in 34 CFR parts 74, 75, 77, 79, 80, 81, 82, 86, 97, 98, and 99. Title VII, Part C of the Elementary and Secondary Education Act of 1965, as amended by the No Child Left Behind Act of 2001, Pub. L. No. 107-110.

Selection Criteria: The Secretary will use the following selection criteria in 34 CFR 75.210 to evaluate applications under this competition (the specific selection criteria and factors that will be used in evaluating applications are detailed in the application package). The maximum score for all of the selection criteria is 100 points. The maximum points for each criterion is as follows:

(a) Need for Project—5 points.

(b) Significance—5 points.

(c) Quality of Project Design—25 points.

(d) Adequacy of Project Services—25 points.

(e) Quality of Project Personnel—15 points.

(f) Adequacy of Resources—5 points.

(g) Quality of Management Plan—10 points.

(h) Quality of Project Evaluation—10 points.

Priorities

(a) Competitive Preference. Except for activities listed in section 7304(d)(2) of the authorizing statute, which have statutory minimum funding levels, the Secretary will award up to 5 bonus points to applications from Alaska Native regional nonprofit organizations and up to 5 bonus points to applications from consortia that include at least one Alaska Native regional nonprofit organization. These priorities are specified in the authorizing statute for this program. The bonus points are in addition to any points the applicant earns under the selection criteria listed above. The Secretary may select an application that meets a priority over an application of comparable merit that does not meet the priority.

(b) Absolute Preferences. In accordance with statutory requirements, the Secretary is establishing two separate priorities for proposals to use grant funds to support (1) dropout prevention programs; and (2) parenting education programs for parents and caregivers of Alaska Native children to improve parenting and caregiving skills (including skills relating to discipline and cognitive development), including parenting education provided through in-home visitation of new mothers. To implement the priority for dropout prevention programs, the Secretary is establishing a separate competition for applications that meet this priority and reserves $2 million solely for this competition. To implement the priority for parenting education programs, the Secretary is establishing a separate competition for applications that meet this priority and reserves $1 million solely for this competition. The Secretary may adjust the amount reserved for these separate competitions after determining the number of high-quality applications received.

Instructions for Transmittal of Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In Fiscal Year 2002, the U.S. Department of Education is continuing to expand its pilot project of electronic submission of applications to include additional formula grant programs and additional discretionary grant competitions. The Alaska Native Education Program, CFDA 84.356A is one of the programs included in the pilot project. If you are an applicant under the Alaska Native Education Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement. If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the Alaska Native Education Program at: http://e-grants.ed.gov.

We have included additional information about the e-APPLICATION pilot project (see Parity Guidelines between Paper and Electronic Applications) in the application package.

For Applications and Information Contact: Mrs. Lynn Thomas, (202) 260-1541, U.S. Department of Education, 400 Maryland Avenue, SW., FOB6, Room 3C126, Mail Stop 6140, Washington, DC 20202. The e-mail address for Mrs. Thomas is: Lynn.thomas@ed.gov.

Individuals who use a telecommunications device for the deaf (TDD) may call the Federal Information Relay Service (FIRS) at 1-800-877-8339.

Individuals with disabilities may obtain this document in an alternate format (e.g., Braille, large print, audiotape, or computer diskette) on request to the contact person listed above.

Individuals with disabilities may also obtain a copy of the application package in an alternate format on request to the contact person listed above. However, the Department is not able to reproduce in an alternate format the standard forms included in the application package.

Electronic Access to This Document: You may view this document, as well as other Department of Education documents published in the Federal Register, in text or portable document format (PDF) on the Internet at either of the following sites: http://ocfo.ed.gov/fedreg.htm; http://www/ed.gov/news.html.

To use PDF you must have Adobe Acrobat Reader, which is available free at either of the preceding sites. If you have questions about using PDF, call the U.S. Government Printing Office, toll free, at 1-888-293-6498, or in the Washington, DC area at (202) 512-1530.

Note: The official version of this document is the document published in the Federal Register. Free Internet access to the official edition of the Federal Register and the Code of Federal Regulations are available on GPO Access at: http://www.access.gpo.gov/nara/index.html.

Program Authority: Pub. L. No. 107-110.
Dated: March 26, 2002.
Susan B. Neuman,
Assistant Secretary for Elementary and Secondary Education.

[FR Doc. 02-7810 Filed 3-29-02; 8:45 am]

BILLING CODE 4000-01-P